ADMINISTRATIVE CONFERENCE OF THE UNITED STATES

Notice of Public Meeting of the Assembly of the Administrative Conference of the United States

AGENCY: Administrative Conference of the United States.

ACTION: Notice.

SUMMARY: Pursuant to the Federal Advisory Committee Act (Pub. L. 92-463), the Assembly of the Administrative Conference of the United States will hold a meeting to consider four proposed recommendations and to conduct other business. This meeting will be open to the public.

DATES: The meeting will take place on Thursday, June 13, 2013, 2:00 p.m. to 6:00 p.m., and on Friday, June 14, 2013, 9:00 a.m. to 12:00 noon. The meeting may adjourn early if all business is finished.

ADDRESSES: The meeting will be held at the Commodity Futures Trading Commission, Three Lafayette Centre, 1155 21st Street NW., Washington, DC 20581 (Main Conference Room).

FOR FURTHER INFORMATION CONTACT: Shawne McGibbon, General Counsel (Designated Federal Officer), Administrative Conference of the United States, Suite 706 South, 1120 20th Street NW., Washington, DC 20036; Telephone 202-480-2088; email smcgibbon@acus.gov.

SUPPLEMENTARY INFORMATION: The Administrative Conference of the United States makes recommendations to administrative agencies, the President, Congress, and the Judicial Conference of the United States regarding the improvement of Federal administrative procedures (5 U.S.C. 594). The membership of the Conference, when meeting in plenary session, constitutes the Assembly of the Conference (5 U.S.C. 595).

Agenda: The Assembly will discuss and consider the following recommendations:

• Improving Consistency in Social Security Disability Adjudications. This recommendation identifies ways to improve the adjudication process for Social Security disability claims at the administrative law judge hearing stage and at the Appeals Council, and suggests changes to the evaluation of opinion evidence from medical professionals.

• Benefit-Cost Analysis at Independent Regulatory Agencies. This recommendation highlights a series of best practices directed at independent regulatory agencies in the preparation of benefit-cost analyses that accompany proposed and final rules.

• Science in the Administrative Process. This recommendation offers several proposals to promote transparency in agencies' scientific decisionmaking, including: articulation of questions to be informed by science information; attribution for agency personnel who contributed to scientific analyses; public access to underlying data and literature; and conflict of interest disclosures for privately funded research used by the agencies in licensing, rulemaking, or other administrative processes.

• The Administrative Record in Informal Rulemaking. This recommendation offers best practices for agencies in the compilation, preservation, and certification of records in informal rulemaking, and supports the judicial presumption of regularity for agency administrative records except in certain limited circumstances.

Additional information about the proposed recommendations, as well as other materials related to the meeting, can be found at the 58th Plenary Session page on the Conference's Web site (http://www.acus.gov/meetings-and-events/plenary-meeting/58th-plenary-session).

Public Participation: The Conference welcomes the attendance of the public at the meeting, subject to space limitations, and will make every effort to accommodate persons with disabilities or special needs. Members of the public who wish to attend in person are asked to RSVP online at the 58th Plenary Session Web page listed above, no later than two business days before the meeting, in order to facilitate entry. Members of the public who attend the meeting may be permitted to speak only with the consent of the Chairman and the unanimous approval of the members. If you need special accommodations due to disability, please inform the Designated Federal Officer noted above at least 7 days in advance of the meeting. The public may also view the meeting through a live webcast of the meeting, which will be available at: http://acus.granicus.com/ViewPublisher.php?view_id=2. In addition, the public may follow the meeting on our Twitter feed @acusgov or hashtag #58thPlenary.

Written Comments: Persons who wish to comment on any of the proposed recommendations may do so by submitting a written statement either online by clicking “Submit a Comment” on the 58th Plenary Session Web page listed above or by mail addressed to: June 2013 Plenary Session Comments, Administrative Conference of the United States, Suite 706 South, 1120 20th Street NW., Washington, DC 20036. Written submissions must be received at least 5 business days prior to the meeting to assure consideration by the Assembly.

Dated: May 14, 2013.
Shawne McGibbon,
General Counsel.

[FR Doc. 2013-11880 Filed 5-17-13; 8:45 am]

BILLING CODE 6110-01-P